DEPARTMENT OF HOMELAND SECURITY

Coast Guard

33 CFR Part 117

[Docket No. USCG-2016-0855]

Drawbridge Operation Regulation; Delaware River, Tacony, PA and Palmyra, NJ

AGENCY: Coast Guard, DHS.

ACTION: Notice of deviation from drawbridge regulation.

SUMMARY: The Coast Guard has issued a temporary deviation from the operating schedule that governs the SR 73/Tacony-Palmyra bridge, across the Delaware River, mile 107.2, at Tacony, PA and Palmyra, NJ. The deviation is necessary to facilitate bridge maintenance and repairs. This deviation allows the bridge to remain in the closed-to-navigation position.

DATES: The deviation is effective from 6 a.m. on Monday, September 12, 2016 through 6 p.m. on Friday, September 30, 2016.

ADDRESSES: The docket for this deviation, [USCG-2016-0855] is available at http://www.regulations.gov. Type the docket number in the “SEARCH” box and click “SEARCH”. Click on Open Docket Folder on the line associated with this deviation.

FOR FURTHER INFORMATION CONTACT: If you have questions on this temporary deviation, call or email Mr. Michael Thorogood, Bridge Administration Branch Fifth District, Coast Guard, telephone 757-398-6557, email Michael.R.Thorogood@uscg.mil.

SUPPLEMENTARY INFORMATION: The Burlington County Bridge Commission, who owns and operates the SR 73/Tacony-Palmyra bridge, has requested a temporary deviation from the current operating regulations set out in 33 CFR 117.716, to facilitate electrical maintenance and repairs to the bridge.

Under this temporary deviation, the bridge will remain in the closed-to-navigation position from 6 a.m. to 6 p.m., Monday-Friday, September 12, 2016 through September 16, 2016 and September 19, 2016 through September 23, 2016. The bridge will also remain in the closed-to-navigation position from 7 a.m. to 6 p.m. on alternative work dates from September 26, 2016 through September 30, 2016. The bridge is a double bascule bridge and has a vertical clearance in the closed-to-navigation position of 50 feet above mean high water.

The Delaware River is used by a variety of vessels including U.S. government and public vessels, large commercial vessels, tug and barge traffic and recreational vessels. The Coast Guard has carefully coordinated the restrictions with waterway users in publishing this temporary deviation.

Vessels able to safely pass through the bridge in the closed-to-navigation position may do so at any time. The bridge will not be able to open for emergencies and there is no immediate alternative route for vessels to pass. The Coast Guard will also inform the users of the waterway through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: September 2, 2016.
Hal R. Pitts,
Bridge Program Manager, Fifth Coast Guard District.

[FR Doc. 2016-21692 Filed 9-8-16; 8:45 am]

BILLING CODE 9110-04-P